SECURITIES AND EXCHANGE COMMISSION

Sunshine Act Meetings

FEDERAL REGISTER CITATION OF PREVIOUS ANNOUNCEMENT: 84 FR 67987, December 12, 2019.

PREVIOUSLY ANNOUNCED TIME AND DATE OF THE MEETING: Tuesday, December 17, 2019 at 2:00 p.m.

CHANGES IN THE MEETING: The Closed Meeting scheduled for Tuesday, December 17, 2019 at 2:00 p.m. has been changed to Tuesday, December 17, 2019 at 1:00 p.m.

CONTACT PERSON FOR MORE INFORMATION: For further information and to ascertain what, if any, matters have been added, deleted or postponed, please contact the Office of the Secretary at (202) 551-5400.

Dated: December 16, 2019.
Vanessa A. Countryman,
Secretary.

[FR Doc. 2019-27463 Filed 12-17-19; 11:15 am]

BILLING CODE 8011-01-P